DEPARTMENT OF LABOR

Occupational Safety and Health Administration

Advisory Committee on Construction Safety and Health; Notice of Meeting

AGENCY: Occupational Safety and Health Administration (OSHA), Labor.

ACTION: Notice of a meeting of the Advisory Committee on Construction Safety and Health (ACCSH).

SUMMARY: ACCSH will meet May 18-19, 2004, in Washington, DC. This meeting is open to the public.

Time and Date: ACCSH will meet from 8:30 a.m. to 4:30 p.m., Tuesday, May 18, 2004, and 8:30 a.m. to noon, Wednesday, May 19, 2004.

Place: ACCSH will meet at the U.S. Department of Labor, Frances Perkins Building, Room N3437 A-C, 200 Constitution Avenue, NW., Washington, DC.

FOR FURTHER INFORMATION CONTACT: For general information about ACCSH and ACCSH meetings: Michael Buchet, OSHA, Directorate of Construction, Room N-3468, U.S. Department of Labor, 200 Constitution Avenue, NW., Washington, DC 20210; telephone 202-693-2020. For information about submission of comments, requests to speak, and the need for special accommodations for the meeting: Veneta Chatmon, OSHA, Office of Public Affairs, Room N-3647, U.S. Department of Labor, 200 Constitution Avenue, NW., Washington, DC 20210; telephone 292-693-1999. Individuals needing special accommodations should contact Ms. Chatmon no later than May 4, 2004. Electronic copies of this Federal Register notice, as well as information about ACCSH workgroups and other relevant documents, are available at OSHA's Web page on the Internet at http://www.osha.gov.

SUPPLEMENTARY INFORMATION: ACCSH will meet May 18-19, 2004, in Washington, DC. This meeting is open to the public. The agenda for this meeting includes:

• Remarks—Assistant Secretary—OSHA.

• Hexavalent Chromium proposed rulemaking.

• Subpart V proposed rulemaking.

• Hispanic Taskforce and Summit.

• Standards Update.

• Partnership and Alliance Update.

• Public Comment (During this period, any member of the public is welcome to address ACCSH about construction-related safety and health issues. See information below to request time to speak at the meeting.)

All ACCSH meetings are open to the public. An official record of the meeting will be available for public inspection at the OSHA Docket Office, Room N-2625, at the address above, telephone (202) 693-2350.

Interested parties may submit written data, views or comments, preferably with 20 copies, to Ms. Chatmon, at the address above. OSHA will provide submissions received prior to the meeting to ACCSH members and will include each submission in the record of the meeting. Attendees may also request to make an oral presentation by notifying Veneta Chatmon before the meeting at the address above. The request must state the amount of time desired, the interest represented by the presenter (e.g., the names of the business, trade association, government Agency), if any, and a brief outline of the presentation. The Chair of ACCSH may grant the request at his discretion and as time permits.

ACCSH Work Groups

The ACCSH Tower Erection work group will meet from 1-5 p.m., Wednesday, May 19, 2004, in Room N 3437 A-C of the Frances Perkins Building at the address above. Work group meetings are open to the public. For further information on ACCSH work group meetings or on participating on ACCSH work groups, please contact Michael Buchet at the address above or look on the ACCSH page on OSHA's Web page at http://www.osha.gov.

Authority: John L. Henshaw, Assistant Secretary of Labor for Occupational Safety and Health, directed the preparation of this notice under the authority granted by section 7 of the Occupational Safety and Health Act of 1970 (29 U.S.C. 656), section 107 of the Contract Work Hours and Safety Standards Act (Construction Safety Act) (40 U.S.C. 333), and Secretary of Labor's Order No. 5-2002 (67 FR 65008).

Signed at Washington, DC, this 16th day of April, 2004.
John L. Henshaw,
Assistant Secretary of Labor.

[FR Doc. 04-9339 Filed 4-23-04; 8:45 am]

BILLING CODE 4510-26-P